DEPARTMENT OF HOUSING AND URBAN DEVELOPMENT

[Docket No. FR-5538-D-02]

Order of Succession for Government National Mortgage Association (GNMA)

AGENCY: Office of the President of the Government National Mortgage Association, HUD.

ACTION: Notice of Order of Succession.

SUMMARY: In this notice, the President of the Government National Mortgage Association (GNMA) designates the Order of Succession for GNMA. This Order of Succession supersedes all prior Orders of Succession for GNMA.

DATES: Effective Date: August 19, 2011.

FOR FURTHER INFORMATION CONTACT: Gregory A. Keith, Senior Vice President, Chief Risk Officer, Government National Mortgage Association, Department of Housing and Urban Development, Potomac Center South, 550 12th Street, SW., 3rd Floor, Washington, DC 20024, telephone number 202-475-4918 (this is not a toll-free number). Persons with hearing- or speech-impairments may access this number though TTY by calling the toll-free Federal Relay Service at 1-800-877-8339.

SUPPLEMENTARY INFORMATION: The President of GNMA hereby issues this Order of Succession pursuant to the bylaws of GNMA, which authorize the President to designate the sequence in which other officers of GNMA shall act. The officers designated below shall perform the duties and exercise the power and authority of the President when the President is absent, or unable to act, or when there is a vacancy in the Office of the President of GNMA. This Order of Succession is subject to the provisions of the Federal Vacancies Reform Act of 1998 (5 U.S.C. 3345-3349d) and the bylaws of the GNMA, 24 CFR part 310. Accordingly, the President of GNMA designates the following Order of Succession:

Section A. Order of Succession

Subject to the provisions of the Federal Vacancies Reform Act of 1998 and the bylaws of GNMA, during any period when, by reason of absence, disability, or vacancy in office, the President of GNMA is not available to exercise the powers or perform the duties of the President, the following officials within the Office of GNMA are hereby designated to exercise the powers and perform the duties of the Office, including the authority to waive regulations:

(1) Executive Vice President;

(2) Senior Vice President, Office of Program Operations;

(3) Senior Vice President, Office of Finance;

(4) Senior Vice President, Office of Mortgage Backed Securities;

(5) Senior Vice President, Office of Capital Markets;

(6) Senior Vice President, Office of Enterprise Risk;

(7) Vice President, Chief Information Officer; and

(8) Vice President, Deputy Director, Office of Management Operations.

These officials shall perform the functions and duties of the Office in the order specified herein, and no official shall serve unless all the other officials, whose position titles precede his/hers in this order, are unable to act by reason of absence, disability, or vacancy in office.

Section B. Authority Superseded

This Order of Succession supersedes all prior Orders of Succession for the President of GNMA.

Authority: Section 7(d), Department of Housing and Urban Development Act (42 U.S.C. 3535(d)); Section 3.05, Bylaws of the Government National Mortgage Association, 24 CFR part 310.

Dated: August 19, 2011.
Theodore W. Tozer,
President, Government National Mortgage Association.

[FR Doc. 2011-22176 Filed 8-29-11; 8:45 am]

BILLING CODE 4210-67-P